DEPARTMENT OF THE INTERIOR

Bureau of Land Management

[LLNVB00000 L14300000.ET0000 241A; NVN-50507; MO#4500012779; 10-08807; TAS: 14X1109]

Notice of Proposed Withdrawal Extension and Opportunity for Public Meeting; Nevada

AGENCY: Bureau of Land Management, Interior.

ACTION: Notice.

SUMMARY: The Assistant Secretary of the Interior for Land and Minerals Management proposes to extend the duration of Public Land Order (PLO) No. 6818 for an additional 20-year term. PLO No. 6818 withdrew 5 acres of public land from settlement, sale, location, or entry under the general land laws, including the United States mining laws, to protect the Bureau of Land Management's Tonopah Administrative Site in Nye County. The withdrawal created by PLO No. 6818 will expire on November 28, 2010, unless extended. This notice gives an opportunity to comment on the proposed action and to request a public meeting.

DATES: Comments and requests for a public meeting must be received by September 30, 2010. Upon determination by the authorized officer that a public meeting will be held, a notice of the time and place will be published in the Federal Register and at least one local newspaper 30 days before the scheduled date of the meeting.

ADDRESSES: Comments and meeting requests may be mailed to the Field Manager, BLM Tonopah Field Office, Attn: NVN-50507 Tonopah Administrative Site Withdrawal Extension, P.O. Box 911, Tonopah, Nevada 89049.

FOR FURTHER INFORMATION CONTACT: Jacqueline M. Gratton, 775-861-6532, or e-mail: Jacqueline_Gratton@blm.gov.

SUPPLEMENTARY INFORMATION: The withdrawal created by PLO No. 6818 (55 FR 49522 (1990)) will expire on November 28, 2010, unless extended. PLO No. 6818 is incorporated herein by reference. The BLM has filed a petition/application to extend the withdrawal established by PLO No. 6818 for an additional 20-year term. The withdrawal was made to protect the Tonopah Administrative Site and contains 5 acres in Nye County.

The purpose of the proposed extension is to continue the withdrawal created by PLO No. 6818 for an additional 20-year term for protection of the capital investment in the Tonopah Administrative Site.

The use of a right-of-way, interagency, or cooperative agreement would not adequately constrain nondiscretionary uses which could result in the loss of the capital investment.

There are no suitable alternative sites as the land described contains permanent Federal facilities. Structures and improvements on the site include the Tonopah administrative office, employee covered break area, visitor and employee parking area, two warehouses, garage/storage building, and storage yard for equipment and vehicles.

No water rights would be needed to fulfill the purpose of the requested withdrawal extension.

For a period of 90 days from the date of publication of this notice, all persons who wish to submit comments, suggestions, or objections in connection with the proposed withdrawal extension may present their views in writing to the Field Manager, BLM Tonopah Field Office at the address noted above. Comments, including names and street addresses of respondents, and records relating to the application, will be available for public review at the address stated above, during regular business hours 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed withdrawal extension. All interested persons who desire a public meeting for the purpose of being heard on the proposed extension must submit a written request to the Field Manager, BLM Tonopah Field Office, by September 30, 2010.

This withdrawal extension proposal will be processed in accordance with the regulations set forth in 43 CFR 2310.4.

Authority: 43 CFR 2310.3-1.

Brian C. Amme,
Acting Deputy State Director, Resources, Lands and Planning.

[FR Doc. 2010-16149 Filed 7-1-10; 8:45 am]

BILLING CODE 4310-HC-P